DEPARTMENT OF JUSTICE

Antitrust Division

Notice Pursuant to the National Cooperative Research and Production Act of 1993—Co2 Capture Project

Notice is hereby given that, on June 22, 2000, pursuant to Section 6(a) of the National Cooperative Research and Production Act of 1993, 15 U.S.C. 4301 et seq. (“the Act”), BP Amoco Corporation has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to Section 6(b) of the Act, the identities of the parties are BP Amoco Corporation, Anchorage, AK; Chevron Petroleum Technology Company, Houston, TX; Den Norske Stats Oljeselskap As, Trondheim, NORWAY; Norsk Hydro Asa, Oslo, NORWAY; Shell International Exploration & Production Inc., Houston, TX; Suncor Energy (Cyprus) Limited, Nicosia, CYPRUS and Texaco Inc., White Plains, NY. The nature and objectives of the venture are to: (1) Develop low cost next generation technology which achieves the ability to capture and geologically sequester CO2 from industrial turbines, boilers, heaters, and power generation systems which emit CO2; (2) determine the key principles and practices to maximize the volume of CO2 which can be safely sequestered in geologic formations; (3) develop procedures and guidelines to monitor and verify storage of CO2 in geologic formations and (4) identify and recommend policies and incentives which may enhance economic viability of CO2 capture and sequestration schemes.

Constance K. Robinson,
Director of Operations, Antitrust Division.

[FR Doc. 00-20151 Filed 8-8-00; 8:45 am]

BILLING CODE 4410-11-M